DEPARTMENT OF THE TREASURY

Office of Foreign Assets Control

Notice of OFAC Sanctions Actions

AGENCY: Office of Foreign Assets Control, Treasury.

ACTION: Notice

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: October 20, 2023.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On October 20, 2023, OFAC determined that the property and interests in property subject to U.S. jurisdiction of the following persons are blocked under the relevant sanctions authorities listed below.

Individuals

1. DODIK, Igor, Bosnia and Herzegovina; DOB 25 Jan 1989; POB Banja Luka, Bosnia and Herzegovina; nationality Bosnia and Herzegovina; Gender Male (individual) [BALKANS-EO14033] (Linked To: DODIK, Milorad).

Designated pursuant to Section 1(a)(vi) of Executive Order 14033 of June 8, 2021, “Blocking Property and Suspending Entry into the United States of Certain Persons Contributing to the Destabilizing Situation in the Western Balkans” (E.O. 14033), 86 FR 31079 (June 10, 2021), 3 CFR 2021 Comp., p. 591, for having materially assisted, sponsored, or provided financial, material, or technological support for, or goods or services to or in support of, Milorad Dodik, a person whose property and interests in property are blocked pursuant to E.O. 14033.

2. DODIK, Gorica, Bosnia and Herzegovina; DOB 30 Sep 1982; POB Bosnia and Herzegovina; nationality Bosnia and Herzegovina; Gender Female (individual) [BALKANS-EO14033] (Linked To: DODIK, Milorad).

Designated pursuant to Section 1(a)(vi) of E.O. 14033 for having materially assisted, sponsored, or provided financial, material, or technological support for, or goods or services to or in support of, Milorad Dodik, a person whose property and interests in property are blocked pursuant to E.O. 14033.

Entities

3. GLOBAL LIBERTY D.O.O. LAKTASI (a.k.a. DRUSTVO SA OGRANICENOM ODGOVORNOSCU GLOBAL LIBERTY LAKTASI; a.k.a. GLOBAL LIBERTY D.O.O.), Gradiska cesta 57, Laktasi 78250, Bosnia and Herzegovina; Tax ID No. 4403756190000 (Bosnia and Herzegovina); Business Registration Number 57-01-0286-14 (Bosnia and Herzegovina) [BALKANS-EO14033] (Linked To: DODIK, Igor; Linked To: DODIK, Gorica).

Designated pursuant to Section 1(a)(vii) of E.O. 14033 for being owned or controlled by, or having acted or purported to act for or on behalf of, directly or indirectly, Igor Dodik and Gorica Dodik, persons whose property and interests in property are blocked pursuant to E.O. 14033.

4. FRUIT ECO D.O.O. GRADISKA (a.k.a. DRUSTVO SA OGRANICENOM ODGOVORNOSCU ZA PROIZVODNJU I PROMET VOCA I POVRCA FRUIT ECO D.O.O. GORNJI PODGRADCI, GRADISKA; a.k.a. FRUIT ECO D.O.O.), Gornji Podgradci BB, Gradiska 78400, Bosnia and Herzegovina; Tax ID No. 4402717080004 (Bosnia and Herzegovina); Business Registration Number 1-16289-00 (Bosnia and Herzegovina) [BALKANS-EO14033] (Linked To: DODIK, Igor).

Designated pursuant to Section 1(a)(vii) of E.O. 14033 for being owned or controlled by, or having acted or purported to act for or on behalf of, directly or indirectly, Igor Dodik, a person whose property and interests in property are blocked pursuant to E.O. 14033.

5. AGRO VOCE D.O.O. LAKTASI (a.k.a. AGRO VOCE D.O.O.; a.k.a. AGRO VOCE D.O.O. ZA VOCARSTVO PROIZVODNJU I TRGOVINU LAKTASI), Aleksandrovac BB, Laktasi 78250, Bosnia and Herzegovina; Tax ID No. 4402836840009 (Bosnia and Herzegovina); Business Registration Number 1-16884-00 (Bosnia and Herzegovina) [BALKANS-EO14033] (Linked To: DODIK, Gorica).

Designated pursuant to Section 1(a)(vii) of E.O. 14033 for being owned or controlled by, or having acted or purported to act for or on behalf of, directly or indirectly, Gorica Dodik, a person whose property and interests in property are blocked pursuant to E.O. 14033.

6. AGAPE GORICA DODIK I IVANA DODIK S.P. BANJA LUKA (a.k.a. RESTORAN AGAPE GORICA DODIK I IVANA DODIK S.P. BANJA LUKA), Trg Krajine 2, Banja Luka 78000, Bosnia and Herzegovina; Tax ID No. 4510153630006 (Bosnia and Herzegovina) [BALKANS-EO14033] (Linked To: DODIK, Gorica).

Designated pursuant to Section 1(a)(vii) of E.O. 14033 for being owned or controlled by, or having acted or purported to act for or on behalf of, directly or indirectly, Gorica Dodik, a person whose property and interests in property are blocked pursuant to E.O. 14033.

Dated: October 20, 2023.
Bradley T. Smith,
Director, Office of Foreign Assets Control.

[FR Doc. 2023-23567 Filed 10-24-23; 8:45 am]

BILLING CODE 4810-AL-P